SMALL BUSINESS ADMINISTRATION

[Disaster Declaration #20902 and #20903; PUERTO RICO Disaster Number PR-20003]

Presidential Declaration Amendment of a Major Disaster for Public Assistance Only for the Commonwealth of Puerto Rico

AGENCY: U.S. Small Business Administration.

ACTION: Amendment 1.

SUMMARY: This is an amendment of the Presidential declaration of a major disaster for Public Assistance Only for the Commonwealth of Puerto Rico (FEMA-4850-DR), dated November 27, 2024.

Incident: Tropical Storm Ernesto.

DATES: Issued on February 4, 2025.

Incident Period: August 13, 2024, through August 16, 2024.

Physical Loan Application Deadline Date: March 6, 2025.

Economic Injury (EIDL) Loan Application Deadline Date: August 27, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of Puerto Rico, dated November 27, 2024, is hereby amended to extend the deadline for filing applications for physical damages as a result of this disaster to March 6, 2025. This notice is further amended to include the following areas as adversely affected by the disaster.

Primary Municipalities: Adjuntas, Arroyo, Cabo Rojo, Camuy, Fajardo, Lajas, Las Piedras, Luquillo, Ponce, Rio Grande, San German, Utuado.

All other information in the original declaration remains unchanged.

(Catalog of Federal Domestic Assistance Number 59008)

James Stallings,
Associate Administrator, Office of Disaster Recovery & Resilience.

[FR Doc. 2025-02604 Filed 2-12-25; 8:45 am]

BILLING CODE 8026-09-P